ENVIRONMENTAL PROTECTION AGENCY

40 CFR Part 52

[PA168-4109b; FRL-7013-6]

Approval and Promulgation of Air Quality Implementation Plans; Pennsylvania; Control of VOCs from Wood Furniture Manufacturing, Surface Coating Processes and Other Miscellaneous Revisions

AGENCY: Environmental Protection Agency (EPA).

ACTION: Proposed rule.

SUMMARY: EPA is proposing to approve State Implementation Plan (SIP) revisions submitted by the Commonwealth of Pennsylvania. The revisions include the adoption of new VOC regulations for wood furniture manufacturing operations. These revisions also add new definitions, and amend or delete certain existing definitions for terms used in regulations pertaining to volatile organic compound (VOC) sources. The revisions also clarify the requirements Pennsylvania's surface coating regulations. Lastly, the revisions include minor amendments to Pennsylvania's regulations pertaining to sampling and testing methods. the addition, revision or deletion of terms used in regulations pertaining to volatile organic compound (VOC) sources, and to amend certain VOC surface coating regulations. In the Final Rules section of this Federal Register, EPA is approving the State's SIP submittal as a direct final rule without prior proposal because the Agency views this as a noncontroversial submittal and anticipates no adverse comments. A more detailed description of the state submittal and EPA's evaluation are included in a Technical Support Document (TSD) prepared in support of this rulemaking action. A copy of the TSD is available, upon request, from the EPA Regional Office listed in the ADDRESSES section of this document. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Comments must be received in writing by August 20, 2001.

ADDRESSES: Written comments should be addressed to David Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Pennsylvania Department of Environmental Resources Bureau of Air Quality Control, P.O. Box 8468, 400 Market Street, Harrisburg, Pennsylvania 17105.

FOR FURTHER INFORMATION CONTACT: Rose Quinto, (215) 814-2182 or Ellen Wentworth, (215) 814-2034 at the EPA Region III address above, or by e-mail at quinto.rose@epa.gov or wentworth.ellen@epa.gov

SUPPLEMENTARY INFORMATION: For further information, please see the information provided in the direct final action, with the same title, that is located in the “Rules and Regulations” section of this Federal Register publication.

Dated: July 5, 2001.
James W. Newsom,
Acting Regional Administrator, Region III.

[FR Doc. 01-18187 Filed 7-19-01; 8:45 am]

BILLING CODE 6560-50-P